INTERNATIONAL TRADE COMMISSION

[Investigation Nos. 731-TA-703 and 705 (Review)]

Furfuryl Alcohol from China and Thailand; Notice of Commission Determination to Conduct a Portion of the Hearing in Camera

AGENCY: U.S. International Trade Commission.

ACTION: Closure of a portion of a Commission hearing.

SUMMARY: Upon request of foreign producer Indo-Rama Chemicals (Thailand) Ltd. (“Indo-Rama”) conduct a portion of its hearing in the above-captioned investigation scheduled for March 1, 2001, in camera. See Commission rules 207.24(d), 201.13(m) and 201.36(b)(4) (19 CFR 207.24(d), 201.13(m) and 201.36(b)(4)). The remainder of the hearing will be open to the public. The Commission has determined that the seven-day advance notice of the change to a meeting was not possible. See Commission rule 201.35(a), (c)(1) (19 CFR 201.35(a), (c)(1)).

FOR FURTHER INFORMATION CONTACT: Gracemary Rizzo, Office of General Counsel, U.S. International Trade Commission, telephone 202-205-3117, e-mail grizzo@usitc.gov. Hearing-impaired individuals are advised that information on this matter may be obtained by contacting the Commission's TDD terminal on 202-205-3105.

SUPPLEMENTARY INFORMATION: The Commission believes that Indo-Rama has justified the need for a closed session. In this review, significant data for both the foreign and domestic industries are business proprietary. Indo-Rama seeks a closed session in order to fully address the issues before the Commission without referring to business proprietary information. In making this decision, the Commission nevertheless reaffirms its belief that whenever possible its business should be conducted in public.

The hearing will begin with public presentations by Penn Speciality Chemicals (“PSC”), a domestic producer opposing revocation of the antidumping duty order, followed by foreign respondents in support of revocation. During the public session, the Commission may question the parties following their respective presentations. Next, the hearing will include a 10-minute in camera session for a confidential presentation by Indo-Rama and for questions from the Commission relating to the BPI, followed by a 10-minute in camera rebuttal presentation by PSC. For any in camera session the room will be cleared of all persons except those who have been granted access to BPI under a Commission administrative protective order (APO) and are included on the Commission's APO service list in these investigations. See 19 CFR 201.35(b)(1), (2). The time for the parties' presentations and rebuttals in the in camera session will be taken from their respective overall time allotments for the hearing. All persons planning to attend the in camera portions of the hearing should be prepared to present proper identification.

Authority: The General Counsel has certified, pursuant to Commission Rule 201.39 (19 CFR 201.39) that a portion of the Commission's hearing in Furfuryl Alcohol from China and Thailand, Inv Nos. 731-TA-703 and 705 (Review), may be closed to the public to prevent the disclosure of BPI.

Issued: February 28, 2001.
By order of the Commission.
Donna R. Koehnke,
Secretary.

[FR Doc. 01-5306 Filed 3-5-01; 8:45 am]

BILLING CODE 7020-02-P